DEPARTMENT OF ENERGY

Federal Energy Regulatory Commission

Combined Notice of Filings

Take notice that the Commission has received the following Natural Gas Pipeline Rate and Refund Report filings:

Filings Instituting Proceedings

Docket Numbers: RP17-451-001.

Applicants: Transcontinental Gas Pipe Line Company,

Description: Transcontinental Gas Pipe Line Company, LLC submits tariff filing per 154.205(b): Transco Annual Fuel Tracker—Amendment to be effective 4/1/2017.

Filed Date: 03/03/2017.

Accession Number: 20170303-5080.

Comment Date: 5:00 p.m. Eastern Time on Wednesday, March 15, 2017.

Docket Numbers: RP17-495-001.

Applicants: Cameron Interstate Pipeline, LLC.

Description: Cameron Interstate Pipeline, LLC submits tariff filing per 154.203: Cameron Interstate Pipeline, LLC Compliance Filing—Corrected Tariff Record to be effective 4/1/2017 Type: 580.

Filed Date: 03/03/2017.

Accession Number: 20170303-5094.

Comment Date: 5:00 p.m. Eastern Time on Wednesday, March 15, 2017.

Docket Numbers: RP17-498-001.

Applicants: Cameron Interstate Pipeline, LLC.

Description: Cameron Interstate Pipeline, LLC submits tariff filing per 154.205(b): Cameron Interstate Pipeline Limited Section 4 Rate Change—Corrected Tariff Rec to be effective4/1/2017.

Filed Date: 03/03/2017.

Accession Number: 20170303-5098.

Comment Date: 5:00 p.m. Eastern Time on Wednesday, March 15, 2017.

Docket Numbers: RP17-518-000.

Applicants: Natural Gas Pipeline Company of America.

Description: Natural Gas Pipeline Company of America LLC submits tariff filing per 154.204: Elgin Energy Center Negotiated Rate to be effective 4/1/2017.

Filed Date: 03/03/2017.

Accession Number: 20170303-5029.

Comment Date: 5:00 p.m. Eastern Time on Wednesday, March 15, 2017.

Docket Numbers: RP17-519-000.

Applicants: Texas Eastern Transmission, LP.

Description: Offer of Stipulation and Agreement by Texas Eastern Transmission, LP.

Filed Date: 03/03/2017.

Accession Number: 20170303-5206.

Comment Date: 5:00 p.m. Eastern Time on Wednesday, March 15, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated; March 7, 2017.
Nathaniel J. Davis, Sr.,
Deputy Secretary.

[FR Doc. 2017-05128 Filed 3-14-17; 8:45 am]

BILLING CODE 6717-01-P